DEPARTMENT OF ENERGY

Federal Energy Regulatory Commission

[Docket No. RP00-162-008]

Panhandle Eastern Pipe Line Company; Notice of Compliance Filing

December 7, 2000.

Take notice that on December 1, 2000, Panhandle Eastern Pipe Line Company (Panhandle) tendered for filing a report detailing the activity under Rate Schedule HFT through October 1, 2000.

Panhandle states that the purpose of this filing is to comply with the Commission's Order, 91 FERC ¶ 61,174 (May 22, 2000) (Order) in the above-referenced proceeding. Panhandle's report reflects that, since the effective date on May 22, 2000 until October 1, 2000, no service has been provided under Rate Schedule HFT.

Panhandle states that copies of this filing are being served on all affected customers, applicable state regulatory agencies and parties to the proceeding.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 00-31849 Filed 12-13-00; 8:45 am]

BILLING CODE 6717-01-M